DEPARTMENT OF COMMERCE

National Oceanic and Atmospheric Administration

50 CFR Part 648

[Docket No. 121126649-3123-01]

RIN 0648-BC79

Magnuson-Stevens Fishery Conservation and Management Act Provisions; Fisheries of the Northeastern United States; Monkfish Fishery; Emergency Action

AGENCY: National Marine Fisheries Service (NMFS), National Oceanic and Atmospheric Administration (NOAA), Commerce.

ACTION: Proposed rule; request for comment.

SUMMARY: NMFS proposes to implement a temporary emergency action that would suspend existing monkfish possession limits for vessels issued both a Federal limited access Northeast multispecies permit and a limited access monkfish Category C or D permit that are fishing under a Northeast multispecies day-at-sea in the monkfish Northern Fishery Management Area for 180 days beginning on May 1, 2013. This action is necessary to help mitigate expected adverse economic and social harm resulting from substantial reductions to the 2013 annual catch limits for several groundfish stocks managed under the Northeast Multispecies Fishery Management Plan. The intended effect of this action is to provide additional fishing opportunities to vessels affected by reductions to groundfish catch limits, without resulting in overfishing monkfish within the Northern Fishery Management Area.

DATES: Comments must be received by March 12, 2013.

ADDRESSES: You may submit comments on this document, identified by NOAA-NMFS-2012-0240, by any of the following methods:

• Electronic Submission: Submit all electronic public comments via the Federal e-Rulemaking Portal. Go to www.regulations.gov/#!docketDetail;D= NOAA-NMFS-2012-0240, click the “Comment Now!” icon, complete the required fields, and enter or attach your comments.

• Mail: Submit written comments to John K. Bullard, Regional Administrator, National Marine Fisheries Service, 55 Great Republic Drive, Gloucester, MA 01930-2276. Mark the outside of the envelope: “Comments on Monkfish Emergency Action.”

• Fax: (978) 281-9135; Attn: Douglas Christel.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

NMFS prepared an Initial Regulatory Flexibility Analysis (IRFA), which is contained in the environmental assessment (EA) prepared for this action and summarized in the Classification section of this proposed rule. Copies of the supporting biological, economic, and social impact analysis for this action is contained in the EA prepared for this rule, and may be found at the following Internet address: http://www.nero.noaa.gov.

FOR FURTHER INFORMATION CONTACT: Douglas Christel, Fishery Policy Analyst, (978) 281-9141, fax (978) 281-9135.

SUPPLEMENTARY INFORMATION:

Background

The monkfish fishery is jointly managed by the New England Fishery Management Council (NEFMC) and the Mid-Atlantic Fishery Management Council. The fishery extends from Maine to North Carolina out to the continental margin. The Councils manage the fishery as two stocks, with the Northern Fishery Management Area (NFMA) covering the Gulf of Maine (GOM) and northern part of Georges Bank (GB), and the Southern Fishery Management Area (SFMA) extending from the southern flank of GB through the Mid-Atlantic Bight to North Carolina. The monkfish fishery is primarily managed by possession limits, in conjunction with a yearly allocation of monkfish days-at-sea (DAS) calculated to enable vessels participating in the fishery to catch, but not exceed, the target total allowable landings (TAL) limit and the annual catch target (ACT, the TAL plus an estimate of expected discards) in each management area. Both the ACT and the TAL are calculated to maximize yield in the fishery over the long term.

Monkfish are often caught while fishing for Northeast (NE) multispecies (i.e., groundfish), particularly in the NFMA. Both monkfish and groundfish are bottom-dwelling species comingling in the same fishing locations and susceptible to gear types used in both fisheries. Because a majority of vessels operating in the NFMA are issued both monkfish and groundfish permits, the two fisheries are closely related, and influence one another in both the nature of fishing operations (which species to target and where to fish) and resulting economic and social impacts of applicable management measures.

Recent groundfish stock assessments indicate that substantial reductions in the fishing mortality rate for several groundfish stocks are necessary to prevent overfishing and rebuild overfished stocks, consistent with rebuilding plans required under the Magnuson-Stevens Fishery Conservation and Management Act (Magnuson-Stevens Act). Accordingly, the NEFMC developed Framework Adjustment (FW) 48 to the NE Multispecies Fishery Management Plan (FMP) to specify annual catch limits (ACLs) for several groundfish stocks based upon the updated stock assessments, among other measures. The NEFMC ultimately split FW 48 into two separate actions, with updated ACLs adopted as part of FW 50 at its January 2013 meeting. The proposed ACLs for several stocks, particularly those caught in the GOM and GB, are substantially reduced compared to ACLs specified for fishing year (FY) 2012 (see Table 1). A proposed rule to implement these proposed ACLs, along with other management measures, is expected to be published in the Federal Register shortly. If approved, such ACLs would likely become effective by the start of FY 2013 on May 1, 2013, and may result in substantial adverse economic impacts to vessels participating in the groundfish fishery. To help mitigate the adverse economic impacts of reduced fishing opportunities in the groundfish fishery during FY 2013, at its November 2012 meeting, the NEFMC requested that NMFS implement an emergency action to eliminate monkfish possession limits for groundfish sector vessels fishing under a groundfish DAS in the NFMA, an area that includes the entire GOM and northern portions of GB.

Table 1—Proposed Reductions of 2013 Groundfish ACLs Compared to 2012 ACLs
Groundfish stock | Reduction of FY 2013 ACL compared to FY 2012 (percent)
GB cod | 55
GOM cod | 77
GOM haddock | 71
GB yellowtail flounder | 62
Cape Cod/GOM yellowtail flounder | 53
American plaice | 57
Witch flounder | 52

According to the latest monkfish stock assessment conducted in August 2010 (50th Stock Assessment Workshop), monkfish in the NFMA are neither overfished, nor subject to overfishing. Based on this assessment and an evaluation by the NEFMC Scientific and Statistical Committee, the Councils adopted FY 2011-2013 monkfish ACTs and TALs for the NFMA as part of FW 7 to the Monkfish FMP (October 26, 2011; 76 FR 66192). These catch limits were set below the overfishing level for NFMA monkfish to account for both scientific and management uncertainty, and to minimize the risk that overfishing will occur. In recent years, monkfish landings have fallen short of monkfish target total allowable catch amounts specified for the NFMA (see Table 2), with FY 2012 landings levels also projected to be below the TAL. As a result, monkfish landings could be increased as a means of providing additional fishing opportunities for groundfish vessels, with little risk of overfishing NFMA monkfish.

Table 2—Recent NFMA Monkfish Landings Compared to Associated Target Total Allowable Catch Amounts for Each Year
Fishing year | Target total allowable catch (mt) | Amount landed (mt) | Percent of target total allowable catch landed
2008 | 5,000 | 3,528 | 71
2009 | 5,000 | 3,344 | 67
2010 | 5,000 | 2,834 | 57
2011 | 5,854 | 3,699 | 63

Justification for Emergency Action

Section 305(c) of the Magnuson-Stevens Act authorizes the Secretary to promulgate emergency regulations to address an emergency for any fishery. NMFS policy guidelines for determining whether an emergency rule is justified were published on August 21, 1997 (62 FR 44421). The guidelines state that the implementation of an emergency action should be limited to special circumstances where substantial harm or disruption of the resource, fishery, or community would be caused in the time it would take to follow standard rulemaking procedures. The emergency action guidelines define the existence of an emergency as a situation that: “(1) Results from recent, unforeseen events or recently discovered circumstances; and (2) presents serious conservation or management problems in the fishery; and (3) if the opportunity for prior public notice and comment is being waived, can be addressed through emergency regulations for which the immediate benefits outweigh the value of advance notice, public comment, and deliberative consideration of the impacts on participants to the same extent as would be expected under the normal rulemaking process.” The justifications described in the guidelines include the prevention of significant direct economic loss, or to preserve a significant economic opportunity that otherwise might be foregone, and the prevention of significant community impacts. This action meets the first two guidelines; the third guideline is not relevant because the opportunity for prior public comment is not being waived.

As discussed more thoroughly in the EA developed to support this action (see ADDRESSES), the combined effect of several issues facing the groundfish fishery for FY 2013 present recently discovered circumstances that would likely cause serious management problems and result in substantial economic and social harm for the groundfish and monkfish fisheries and associated communities. These issues include a series of recent groundfish stock assessment updates indicating the poor condition of some stocks and the need to reduce fishing mortality for these stocks starting in FY 2013, a late decision by the NEFMC to adopt substantially lower groundfish ACLs for certain stocks for FY 2013 as part of FW 48B to the NE Multispecies FMP, and the lack of time to develop additional measures to mitigate the economic and social impacts of reduced FY 2013 groundfish ACLs through the conventional fishery management council management process. These issues can, at least in part, be addressed through an emergency action to suspend existing monkfish possession limits for vessels issued both a limited access groundfish and monkfish permit in the NFMA.

An emergency action would provide additional fishing opportunities to help mitigate expected substantial adverse economic and social harm resulting from reduced groundfish ACLs in FY 2013, without significantly increasing the risk of overfishing monkfish in the NFMA. These measures can be developed and implemented by NMFS more swiftly than a Council action that is subject to procedural and other requirements not applicable to NMFS. Implementing such measures under emergency action would help to preserve an economic opportunity that otherwise might be foregone if the NEFMC attempted to implement such measures under the normal, slower Council process. Although some of the groundfish stock assessments were completed earlier in 2012, final ACLs were not formally adopted by the NEFMC until January 2013 following the completion of the stock assessment update for GOM and GB cod in December 2012. Thus, the full scope of potential adverse economic impacts for FY 2013 was not realized until very recently. Therefore, the potential impact of the proposed reductions in groundfish ACLs for several groundfish stocks combined represents recently discovered circumstances that could result in substantial harm to the groundfish fishery and associated fishing communities. Further, because the NEFMC needed to prioritize adopting ACLs before the start of FY 2013, there was not enough time to fully develop measures that would help mitigate expected economic impacts of reduced ACLs in FY 2013 as part of FW 48B. Accordingly, NMFS finds that this proposed emergency action, as further described below, is consistent with section 305(c) of the Magnuson-Stevens Act and NMFS guidance regarding the use of emergency actions.

Proposed Management Measures

Pursuant to section 305(c)(3) of the Magnuson-Stevens Act, the management measures proposed in this rule would remain in effect for 180 days, and are likely to be extended an additional 185 days, as allowed by this section of the Magnuson-Stevens Act, unless new information indicates that the NFMA monkfish TAL for FY 2013. If extended, these measures would be effective for the duration of FY 2013 (through April 30, 2014).

1. Monkfish Possession Limits in the NFMA

This emergency action would suspend existing monkfish possession limits for vessels issued a Federal limited access monkfish Category C or D permit (i.e., those also issued a Federal limited access NE multispecies permit) that are fishing under a groundfish DAS or both a groundfish and monkfish DAS in the NFMA during FY 2013. Vessels would still be required to declare a trip under a groundfish or monkfish DAS at the dock prior to starting a trip in order to be exempt from the monkfish possession limits; a vessel that does not declare a trip under a groundfish or monkfish DAS at the dock prior to starting a trip would not be exempt from the monkfish possession limits under this action. Existing monkfish possession limits for vessels issued a limited access monkfish Category A or B permit and fishing under only a monkfish DAS, or vessels issued an open access monkfish Category E permit (i.e., vessels that catch monkfish while targeting other fisheries) would remain the same, as specified in Table 3. In addition, the overfishing level, acceptable biological catch level, ACL, ACT, and TAL would remain as 19,557 mt, 7,592 mt, 6,567 mt, and 5,854 mt, respectively, as implemented in either Amendment 5 (May 25, 2011; 76 FR 30265) or FW 7 to the Monkfish FMP.

Table 3—Proposed Monkfish Possession Limits in the NFMA for 2013
Sector participation status | DAS type | Monkfish permit category | Possession limit (tail weight)
Non-sector (Common Pool) | No DAS | A, B, or E | Up to 5% of total weight of fish onboard; or 50 lb (23 kg) per day, up to 150 lb (68 kg) per trip based on gear used.
| Monk | A | 1,250 lb (567 kg)/DAS.
|  | B | 600 lb (272 kg)/DAS.
| NE Mults A | E | Up to 25% of total weight of fish onboard, not to exceed 300 lb (136 kg).
| DAS only | C or D | Unlimited.
| NE Mults A & Monk DAS | C or D | Unlimited.
Sector | Non-DAS | E | Up to 5% of total weight of fish onboard; or 50 lb (23 kg) per day, up to 150 lb (68 kg) per trip based on gear used.
| NE Mults A | E | Up to 25% of total weight of fish onboard, not to exceed 300 lb (136 kg).
| DAS only | C or D | Unlimited.
| NE Mults A & Monk DAS | C or D | Unlimited.

These proposed measures differ from those requested by the NEFMC in that the suspension of existing monkfish possession limits would apply to both sector and non-sector vessels instead of just sector vessels. Suspending monkfish possession limits for both sector and non-sector groundfish vessels is proposed as being necessary to ensure that the proposed measures fairly and equitably allocate fishing privileges among affected entities, consistent with National Standard 4 of the Magnuson-Stevens Act. This emergency action would not apply to vessels issued a limited access monkfish Category A or B permit, because they are not issued a limited access groundfish permit and are not directly affected by reductions to groundfish ACLs during FY 2013, or to those issued a Category H permit, because they cannot fish within the NFMA.

We expect these proposed measures to more closely achieve, but not exceed, the FY 2013 TAL for monkfish in the NFMA. Using recent landings patterns by limited access monkfish Category C and D vessels, we expect that the proposed measures would result in monkfish landings of approximately 5,430 mt during FY 2013, or 93 percent of the FY 2013 monkfish TAL in the NFMA. This represents an increase of 608,530 lb (276,024 kg) of monkfish landings compared to landings expected under the current possession limits. If fishing patterns shift as a result of these proposed measures, and such a shift results in increased targeting of monkfish, there is a risk that monkfish landings from the NFMA could exceed the FY 2013 TAL.

2. Regional Administrator Authority to Reinstate Existing Monkfish Possession Limits

This action proposes to authorize the Regional Administrator to reinstate monkfish possession limits for limited access monkfish Category C and D vessels fishing under a groundfish DAS or both a monkfish and groundfish DAS in the NFMA at any time within 180 days following the implementation of this action if available data indicate that the NFMA monkfish TAL or ACT may be exceeded during FY 2013. Further, NMFS may modify or not extend this action after the initial 180 days. This is necessary to ensure that unexpected changes in fishing behavior in response to this emergency action do not cause monkfish landings or catch, when discards are included, to exceed the FY 2013 NFMA monkfish TAL or ACT, respectively, and result in overfishing for NFMA monkfish. If necessary, NMFS shall reinstate monkfish possession limits in the NFMA consistent with the Administrative Procedure Act.

Request for Comments

The public is invited to comment on any of the measures proposed in this rule. NMFS is especially interested in receiving comments on the likelihood that these measures may result in changes to recent fishing behavior, including whether more groundfish DAS would be used in FY 2013, and whether vessels would use groundfish DAS to specifically target monkfish.

Classification

At this time, the NMFS Assistant Administrator has made a preliminary determination that the emergency measures that this proposed rule would implement are consistent with the Monkfish FMP, provisions of the Magnuson-Stevens Act, agency guidelines on emergency rules, and other applicable laws. NMFS, in making a final determination, will take into account the data, views, and comments received during the comment period.

This proposed rule has been determined to be not significant for the purposes of Executive Order (E.O.) 12866.

This proposed rule does not contain policies with Federalism or takings implications as those terms are defined in E.O. 13132 and E.O. 12630, respectively.

NMFS prepared an IRFA as required by section 603 of the Regulatory Flexibility Act (RFA). The IRFA describes the economic impact this proposed rule, if adopted, would have on small entities. A description of the action, why it is being considered, and the legal basis for this action are contained in the preamble to this proposed rule and in the background, purpose, and need discussion (Section 2.0) of the EA prepared for this action. This proposed action does not contain any new recordkeeping or reporting requirements, and does not impose any additional costs to affected vessels.

As described above, this action is necessary to help mitigate substantial economic and social impacts to the groundfish fishery and associated fishing communities resulting from substantially reduced ACLs for several groundfish stocks during FY 2013. This action would suspend existing monkfish possession limits for vessels issued a Federal limited access monkfish Category C or D permit fishing under either a monkfish or groundfish DAS in the NFMA. The objective of this emergency action is to increase monkfish fishing opportunities and associated revenue for affected groundfish vessels. The proposed measures are expected to facilitate an increase in NFMA monkfish landings during FY 2013, while minimizing the risk of overfishing monkfish in the NFMA.

NMFS fully analyzed and considered three principal alternatives, including the No Action Alternative, Alternative 1, and the proposed action. The No Action Alternative would have retained the existing monkfish possession limits, while Alternative 1 would have suspended monkfish possession limits for vessels issued a Federal limited access monkfish Category C or D permit when fishing under both a monkfish and groundfish DAS in the NFMA. NMFS also considered, but did not fully analyze, several additional alternatives that were rejected because they were beyond the scope of the purpose and need for this action. The proposed action, Alternative 2 in the EA developed for this action, would likely result in the greatest economic benefit to affected entities among the alternatives considered, as described further below. For a more complete description of the alternatives considered in this action, refer to the EA prepared for this action (see ADDRESSES).

The economic value of monkfish landings depends upon the market category landed due to price variation among the various monkfish market categories. To more effectively compare the economic impacts among alternatives considered in this action, expected revenues associated with each alternative are estimated using the average price of monkfish landed when all landings of all market categories are converted to live weight equivalents using established conversion factors. It is important to recognize that realized revenues during FY 2013 will change in proportion to any deviation from the average price reported during the first part of FY 2012 ($1.22 per lb ($2.69 per kg)), as well as the amount of each monkfish market category that is landed.

Description of and Estimate of the Number of Small Entities to Which the Proposed Rule Would Apply

The preferred alternative would affect any vessel issued a valid Federal limited access monkfish Category C or D permit that fishes under a monkfish or groundfish DAS in the NFMA. All of the vessels affected by this action are considered small entities under the Small Business Administration size standards for small fishing businesses ($4.0 million in gross sales). Therefore, there are no disproportionate impacts between small and large entities associated with this proposed action. Available data are not adequate to identify affiliated vessels, so each operating unit (vessel) is considered a small entity for purposes of the RFA. For a more detailed description of the affected entities, refer to the EA prepared for this action (see ADDRESSES).

As of December 7, 2012, 2,212 vessels were issued a Federal monkfish permit, of which 558 were issued limited access monkfish Category C or D permits during FY 2012. However, only a fraction of these vessels will likely actually fish in the NFMA during FY 2013. During FY 2008, 400 Category C or D vessels fished in the NFMA out of a total of 690 vessels that were issued a limited access monkfish Category C or D permit (58 percent). During FY 2011, a total of 189 monkfish Category C or D vessels fished exclusively in the NFMA, or in both the NFMA and SFMA during the same trip, out of 586 permits issued (32 percent). Assuming more recent fishing activity is a better predictor of fishing operations during FY 2013, it is expected that between 175-200 vessels would be affected by this action. The average size and horsepower of vessels affected by this action is 60 ft (18 m) and 540 horsepower. Because over 80 percent of NFMA monkfish landings in recent years were landed by trawl vessels, trawl vessels would be most affected by this action.

Economic Impacts of the Proposed Action

Assuming that higher monkfish landings do not depress monkfish ex-vessel prices during FY 2013, the proposed action is expected to provide opportunities for increased fishing revenue for affected vessels. The maximum potential revenue that could be realized from the proposed action would be approximately $15.7 million for monkfish landings alone. This assumes that the entire NFMA monkfish TAL (5,854 mt, or 12.9 million lb) would be landed during FY 2013 at the average monkfish price observed during FY 2012 ($1.22 per lb ($2.69 per kg) when landings are converted to live weight equivalents).

Realized revenues from the proposed action are estimated to be approximately $14.6 million from monkfish landings alone during FY 2013 based on a projection of monkfish landings and using the average monkfish price observed to date during FY 2012 ($1.22 per lb ($2.69 per kg) live weight equivalent). That projection estimated that the proposed action would increase monkfish landings by approximately 608,000 lb (275,737 kg) compared to the No Action Alternative. The proposed action would increase monkfish fishing revenue by $742,000 compared to the No Action Alternative, while it would increase monkfish revenue by $568,000 compared to Alternative 1. Additional fishing revenue would also be expected based on landings of other species.

Measures that restrict fishing effort in the groundfish fishery will likely be the primary factor affecting how much additional monkfish fishing revenue would be realized from the proposed action. As noted above, substantial reductions in the FY 2013 ACLs for several groundfish stocks are proposed as part of FW 48 to the NE Multispecies FMP. It is likely that these substantially-reduced groundfish ACLs could cause groundfish vessels to fully harvest their groundfish allocations (sector annual catch entitlements (ACE), or non-sector trimester total allowable catch (TAC) amounts) before the end of FY 2013, triggering reactive accountability measures that would cease groundfish fishing operations temporarily, or for the duration of FY 2013. This would prevent the monkfish and groundfish fisheries from fully realizing the potential economic benefits of suspending monkfish possession limits for vessels fishing under a monkfish or groundfish DAS in the NFMA. If groundfish vessels can avoid exceeding their sector ACE or non-sector trimester TACs, then monkfish landings will likely more closely approach the FY 2013 NFMA monkfish TAL and ACT, resulting in greater economic benefits to affected vessels.

List of Subjects in 50 CFR Part 648

Fisheries, Fishing, Reporting and recordkeeping requirements.

Dated: February 19, 2013.
Alan D. Risenhoover,
Director, Office of Sustainable Fisheries, performing the functions and duties of the Deputy Assistant Administrator for Regulatory Programs, National Marine Fisheries Service.

For the reasons stated in the preamble, 50 CFR part 648 is proposed to be amended as follows:

PART 648—FISHERIES OF THE NORTHEASTERN UNITED STATES

1. The authority citation for part 648 continues to read as follows:

Authority: 16 U.S.C. 1801 et seq.

2. In § 648.94, suspend paragraphs (b)(1)(i), (b)(1)(ii), and (b)(3)(i); and add paragraphs (b)(1)(iii) through (v), (b)(3)(iv), and (h) to read as follows:

§ 648.94 Monkfish possession and landing restrictions.

* * * * *

(b) * * *

(1) * * *

(iii) Category A vessels. A limited access monkfish Category A vessel that fishes under a monkfish DAS exclusively in the NFMA may land up to 1,250 lb (567 kg) tail weight or 3,638 lb (1,650 kg) whole weight of monkfish per DAS (or any prorated combination of tail weight and whole weight based on the conversion factor for tail weight to whole weight of 2.91). For every 1 lb (0.45 kg) of tail only weight landed, the vessel may land up to 1.91 lb (0.87 kg) of monkfish heads only, as described in paragraph (a) of this section.

(iv) Category B vessels. A limited access monkfish Category B vessel that fishes under a monkfish DAS exclusively in the NFMA may land up to 600 lb (272 kg) tail weight or 1,746 lb (792 kg) whole weight of monkfish (gutted) per DAS (or any prorated combination of tail weight and whole weight based on the conversion factor for tail weight to whole weight of 2.91). For every 1 lb (0.45 kg) of tail only weight landed, the vessel may land up to 1.91 lb (0.87 kg) of monkfish heads only, as described in paragraph (a) of this section.

(v) Category C and D vessels. Unless otherwise specified pursuant to paragraph (h) of this section, there is no monkfish trip limit for limited access monkfish Category C or D vessels that are fishing under a monkfish DAS exclusively in the NFMA.

* * * * *

(3) * * *

(iv) NFMA—(A) Category C and D vessels. Unless otherwise specified pursuant to paragraph (h) of this section, there is no monkfish trip limit for limited access monkfish Category C or D vessels that are fishing under a NE multispecies DAS exclusively in the NFMA.

(B) Category F vessels. A limited access monkfish Category F vessel that is fishing under a NE multispecies DAS, and not a monkfish DAS, exclusively in the NFMA is subject to the incidental catch limit specified in paragraph (c)(1)(i) of this section.

(C) Vessels participating in the NE Multispecies Regular B DAS Program. Category C, D, F, G, and H vessels participating in the NE Multispecies Regular B DAS Program, as specified under § 648.85(b)(6), are subject to the incidental catch limit specified in paragraph (c)(1)(i) of this section.

* * * * *

(h) Regional Administrator authority to reinstate monkfish possession limits. Based upon available information, if the Regional Administrator projects that monkfish landings on trips that fished in the NFMA may exceed the fishing year 2013 target total allowable landing limit of 5,854 mt or, when combined with an estimate of discards, the 6,567 mt annual catch target, before the end of fishing year 2013 on April 30, 2014, the Regional Administrator shall reinstate monkfish possession limits for Category C and D vessels in a manner consistent with the Administrative Procedure Act. If monkfish possession limits are reinstated pursuant to this paragraph (h), Category C vessels shall be subject to the possession limits specified in paragraphs (b)(1)(iii) and (c)(1)(i) of this section, while Category D vessels shall be subject to the possession limits specified in paragraphs (b)(1)(iv) and (c)(1)(i) of this section.

[FR Doc. 2013-04265 Filed 2-22-13; 8:45 am]

BILLING CODE 3510-22-P